DEPARTMENT OF COMMERCE

United States Patent and Trademark Office

Applications for Trademark Registration

ACTION: Proposed collection; comment request.

SUMMARY: The United States Patent and Trademark Office (USPTO), as part of its continuing effort to reduce paperwork and respondent burden, invites the general public and other Federal agencies to comment on the extension of a continuing information collection, as required by the Paperwork Reduction Act of 1995, Public Law 104-13 (44 U.S.C. 3506(c)(2)(A)).

DATES: Written comments must be submitted on or before December 22, 2014.

ADDRESSES: You may submit comments by any of the following methods:

• Email: InformationCollection@uspto.gov. Include “0651-0009 comment” in the subject line of the message.

• Mail: Marcie Lovett, Records Management Division Director, Office of the Chief Information Officer, United States Patent and Trademark Office, P.O. Box 1450, Alexandria, VA 22313-1450.

• Federal Rulemaking Portal: http://www.regulations.gov.

FOR FURTHER INFORMATION CONTACT: Requests for additional information should be directed to Catherine Cain, Attorney Advisor, Office of the Commissioner for Trademarks, United States Patent and Trademark Office, P.O. Box 1450, Alexandria, VA 22313-1450; by telephone at 571-272-8946; or by email to Catherine.Cain@uspto.gov with “Paperwork” in the subject line. Additional information about this collection is also available at http://www.reginfo.gov under “Information Collection Review.”

SUPPLEMENTARY INFORMATION:

I. Abstract

The United States Patent and Trademark Office (USPTO) administers the Trademark Act, 15 U.S.C. 1051 et seq., which provides for the Federal registration of trademarks, service marks, collective trademarks and service marks, collective membership marks, and certification marks. Individuals and businesses who use their marks, or intend to use their marks, in commerce regulable by Congress, may file an application with the USPTO to register their marks. Registered marks remain on the register indefinitely, so long as the owner of the registration files the necessary maintenance documents.The rules implementing the Trademark Act are set forth in 37 CFR part 2.

The Act and rules mandate that each certificate of registration include the mark, the particular goods and/or services for which the mark is registered, the owner's name, dates of use of the mark in commerce, and certain other information. The USPTO also provides similar information to the public concerning pending applications. Individuals or businesses may determine the availability of a mark by accessing the register through the USPTO's Web site. Accessing and reviewing the USPTO's publicly available information may reduce the possibility of initiating use of a mark previously registered or adopted by another. Thus, the Federal trademark registration process reduces unnecessary litigation and its associated costs and burdens. The information in this collection is available to the public.

Trademarks can be registered on either the Principal or Supplemental Register. Registrations on the Principal Register confer all of the benefits of registration provided under the Trademark Act. Certain marks that are not eligible for registration on the Principal Register, but are capable of functioning as a trademark, may be registered on the Supplemental Register. Registrations on the Supplemental Register do not have all of the benefits of marks on the Principal Register. Registrations on the Supplemental Register cannot be transferred to the Principal Register, but owners of registrations on the Supplemental Register may apply for registration of their marks on the Principal Register.

The information in this collection can be submitted in paper format or electronically through the Trademark Electronic Application System (TEAS). Applicants that file applications using the TEAS RF or TEAS Plus forms pay a reduced filing fee if they agree to file certain communications regarding the application through TEAS and to receive communications concerning the application by email. TEAS Plus applicants are also subject to the additional requirement to file a complete application. TEAS Plus applications are only available for trademark/service mark applications. There are no TEAS Plus application forms available for the certification marks, collective marks, collective membership marks, and applications for registration on the Supplemental Register at this time.

II. Method of Collection

Electronically if applicants submit the information using the TEAS forms. By mail or hand delivery if applicants choose to submit the information in paper form.

III. Data

OMB Number: 0651-0009.

Form Number(s): PTO Forms 1478, 1480, 1481, 1482.

Type of Review: Extension of a currently approved collection.

Affected Public: Businesses or other for-profits; not-for-profit institutions.

Estimated Number of Respondents: 387,981 responses per year.

Estimated Time per Response: The USPTO estimates that it takes the public approximately 23 minutes (0.38 hours) to 30 minutes (0.50 hours) to complete this information, depending on the application. This includes the time to gather the necessary information, prepare the application, and submit the completed request to the USPTO. The time estimates shown for the electronic forms in this collection are based on the average amount of time needed to complete and electronically file the associated form.

Estimated Total Annual Respondent Burden Hours: 149,108.0 hours.

Estimated Total Annual Respondent Cost Burden: $52,589,960.30. The USPTO expects that associate attorneys will complete these applications. The professional hourly rate for attorneys in private firms is $389. Using this hourly rate, the USPTO estimates that the total respondent cost burden for this collection is $52,589,960.30 per year.

| Item | Estimated time for response (minutes) | Estimated annual responses | Estimated annual burden hours
1 | Use-Based Trademark/Service Mark Application (Paper) | 30 | 1,248 | 624
2 | TEAS Use-Based Trademark/Service Mark Application | 25 | 33,734 | 14055.83
3 | TEAS RF Use-Based Trademark/Service Mark Application | 25 | 48,658 | 20,274.17
4 | TEAS Plus Use-Based Trademark/Service Mark Application | 30 | 67,241 | 33,620.5
5 | Intent to Use Trademark/Service Mark Application (Paper) | 23 | 1,748 | 670.07
6 | TEAS Intent to Use Trademark/Service Mark Application | 18 | 47,228 | 14,168.4
7 | TEAS RF Intent to Use Trademark/Service Mark Application | 18 | 68,122 | 20,436.6
8 | TEAS Plus Intent to Use Trademark/Service Mark Application | 23 | 94,137 | 36,085.85
9 | Application for Registration of Trademark/Service Mark under § 44 (d) and (e)(Paper) | 25 | 214 | 89.17
10 | TEAS Application for Registration of Trademark/Service Mark under § 44 (d) and (e) | 19 | 5,783 | 1,831.28
11 | TEAS RF Application for Registration of Trademark/Service Mark under § 44 (d) and (e) | 19 | 8,341 | 2,641.32
12 | TEAS Plus Application for Registration of Trademark/Service Mark under § 44 (d) and (e) | 24 | 11,527 | 4,610.8
Totals |  |  | 387,981 | 149,108.0

Estimated Total Annual (Non-hour) Respondent Cost Burden: $103,000,866.50. There are no capital start-up, maintenance, or operating fees associated with this information collection. However, this collection does have annual (non-hour) cost burden in the form of postage costs, as well as filing and processing fees.

Applicants incur postage costs when submitting the non-electronic information to the USPTO by mail through the United States Postal Service. The USPTO estimates that the overwhelming majority (98%) of the paper forms are submitted to the USPTO via first class mail. Out of 3,210 paper forms, the USPTO estimates that 3,146 forms will be mailed, with a first class postage cost of $0.49 cents. Therefore, the USPTO estimates that the postage costs for this collection will be $1,541.54.

There is also annual (non-hour) cost burden in the way of filing fees associated with this collection. Applicants who choose to file their applications electronically instead of submitting them in paper pay a reduced filing fee. Those who choose to file TEAS RF or TEAS Plus applications pay a further reduced fee. An application must include a filing fee for each class of goods and services. Therefore, the total filing fees associated with this collection can vary depending on the number of classes in each application. The total filing fees of $102,707,775 shown here are based on the minimum fee of one class per application.

| Item | Responses (yr) | Filing fee ($) | Total non-hour cost burden (yr)
|  | (a) | (b) | (a) × (b)(c)
1 | Use-Based Trademark/Service Mark Application (Paper) | 1,248 | $375.00 | $468,000.00
2 | TEAS Use-Based Trademark/Service Mark Application | 33,734 | 325.00 | 10,963,550.00
3 | TEAS RF Use-Based Trademark/Service Mark Application | 48,658 | 275.00 | 13,380,950.00
4 | TEAS Plus Use-Based Trademark/Service Mark Application | 67,241 | 225.00 | 15,129,225.00
5 | Intent to Use Trademark/Service Mark Application (Paper) | 1,748 | 375.00 | 655,500.00
6 | TEAS Intent to Use Trademark/Service Mark Application | 47,228 | 325.00 | 15,349,100.00
7 | TEAS RF Intent to Use Trademark/Service Mark Application | 68,122 | 275.00 | 18,733,550.00
8 | TEAS Plus Intent to Use Trademark/Service Mark Application | 94,137 | 225.00 | 21,180,825.00
9 | Application for Registration of Trademark/Service Mark under § 44 (d) and (e)(Paper) | 214 | 375.00 | 80,250.00
10 | TEAS Application for Registration of Trademark/Service Mark under § 44 (d) and (e) | 5,783 | 325.00 | 1,879,475.00
11 | TEAS RF Application for Registration of Trademark/Service Mark under § 44 (d) and (e) | 8,341 | 275.00 | 2,293,775.00
12 | TEAS Plus Application for Registration of Trademark/Service Mark under § 44 (d) and (e) | 11,527 | 225.00 | 2,593,575.00
Total |  | 387,981 |  | 102,707,775.00

In addition, the USPTO charges a processing fee of $50 to process applications that were originally filed as TEAS Plus or TEAS RF applications, but which failed to meet the additional filing and prosecution requirements in order to qualify for the reduced fee. The USPTO estimates that out of the 172,905 TEAS Plus use-based, intent to use, and § 44(d) and (e) applications filed, 3,383 will be subject to the processing fee, and that out of the 125,121 TEAS RF use-based, intent-to-use, and § 44(d) and (e) applications filed, 2,448 will be subject to the processing fee. A processing fee is charged for each class of goods and services in the application, so the total processing fee can vary depending on the number of classes. The total processing fees shown here are based on the minimum fee of one class per application. Therefore, the USPTO estimates that at a minimum, the processing fees will add $291,550 to the filing fees estimated above.

The USPTO estimates that the total non-hour cost burden associated with the filing and processing fees for this collection will be $103,000,866.50.

Therefore, the USPTO estimates that the total annual (non-hour) cost burden for this collection, in the form of postage costs and filing and processing fees is $103,000,866.50 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: October 15, 2014.
Marcie Lovett,
Records Management Division Director, USPTO, Office of the Chief Information Officer.

[FR Doc. 2014-24967 Filed 10-20-14; 8:45 am]

BILLING CODE 3510-16-P